ENVIRONMENTAL PROTECTION AGENCY

[EPA-HQ-OPA-2008-0563; FRL 11803-01-OLEM]

Access by EPA Contractors to Information Claimed as Proprietary Business Information (PBI) Submitted Under the National Contingency Plan

AGENCY: Environmental Protection Agency (EPA).

ACTION: Notice of contractor access to proprietary business information.

SUMMARY: The Environmental Protection Agency (EPA) Office of Land and Emergency Management (OLEM), Office of Emergency Management (OEM) has authorized General Dynamics Information Technology, Inc. (GDIT) of Falls Church, VA to access information which has been submitted to EPA under the National Oil and Hazardous Substances Pollution Contingency Plan, and which may be claimed as proprietary business information (PBI). The information is related to the submission of an application for listing a product on the NCP Product Schedule or Sorbent Product List.

DATES: Comments must be received on or before August 7, 2024.

ADDRESSES: You may send comments, identified by Docket ID No. EPA-HQ-OPA-2008-0563, by any of the following methods:

• Federal eRulemaking Portal: https://www.regulations.gov/ (our preferred method). Follow the online instructions for submitting comments.

• Email: Email your comments to a-and-r-Docket@epa.gov. Include Docket ID No. EPA-HQ-OPA-2008-0563 in the subject line of the message.

• Mail: U.S. Environmental Protection Agency, EPA Docket Center, Office of Land and Emergency Management Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Michael Beuthe, Office of Land and Emergency Management, Office of Emergency Management 5104A, Environmental Protection Agency, 1200 Pennsylvania Ave. NW; telephone number: (202) 566-1499; email address: beuthe.michael@epa.gov.

SUPPLEMENTARY INFORMATION:

I. Public Participation

A. Written Comments

Submit your comments, identified by Docket ID No. EPA-HQ-OPA-2008-0563, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. Does this action apply to me?

This action is directed to the general public. This action may, however, be of interest to parties who submit an application for listing a product on the NCP Product Schedule or Sorbent Product List under subpart J of 40 CFR part 300.

Dated: June 12, 2024.
Patricia Gioffre,
Acting Deputy Director, Office of Emergency Management.

[FR Doc. 2024-14835 Filed 7-5-24; 8:45 am]

BILLING CODE 6560-50-P